DEPARTMENT OF TRANSPORTATION

Federal Aviation Administration

14 CFR Part 71

[Docket FAA No. FAA-2006-24926; Airspace Docket No. 06-ASW-1]

Establishment, Modification and Revocation of VOR Federal Airways; East Central United States

AGENCY: Federal Aviation Administration (FAA), DOT.

ACTION: Final rule; correction.

SUMMARY: This action corrects a final rule published in the Federal Register June 15, 2007 (72 FR 33151), Airspace Docket No. 06-ASW-1, FAA Docket No. FAA-2006-24926. In that rule, an error was made in the legal description for VOR Federal Airway V-65. Specifically, the description omitted the words “Sandusky, OH”. This action corrects that error.

EFFECTIVE DATE: 0901 UTC, August 30, 2007. The Director of the Federal Register approves this incorporation by reference action under 1 CFR part 51, subject to the annual revision of FAA Order 7400.9 and publication of conforming amendments.

FOR FURTHER INFORMATION CONTACT: Steve Rohring, Airspace and Rules Group, Office of System Operations Airspace and AIM, Federal Aviation Administration, 800 Independence Avenue, SW., Washington, DC 20591; telephone: (202) 267-8783.

SUPPLEMENTARY INFORMATION:

History

On June 15, 2007, a final rule for Airspace Docket No. 06-ASW-1, FAA Docket No. FAA-2006-24926 was published in the Federal Register (72 FR 33151), establishing VOR Federal Airway V-65 over the East Central United States. The legal description for V-65 was incorrect in that a reference to the Sandusky, OH, VORTAC was omitted. The correct legal description should contain the words “Sandusky, OH”. This action corrects that error.

Correction to Final Rule

Accordingly, pursuant to the authority delegated to me, the legal description as published in the Federal Register on June 15, 2007 (72 FR 33151), Airspace Docket No. 06-ASW-1, FAA Docket No. FAA-2006-24926, and incorporated by reference in 14 CFR 71.1, is corrected as follows:

§ 71.1 [Amended]

On page 33152, correct the legal description for V-65, to read as follows:

Paragraph 6010 VOR Federal Airways.

* * * * *

V-65 [Corrected]

From DRYER, OH; Sandusky, OH; INT Sandusky 288° and Carleton, MI 157° radials; to Carleton.

* * * * *

Issued in Washington, DC, on July 2, 2007.
Edith V. Parish,
Manager, Airspace and Rules Group.

[FR Doc. E7-13209 Filed 7-9-07; 8:45 am]

BILLING CODE 4910-13-P